DEPARTMENT OF THE INTERIOR

Bureau of Land Management

[BLM_CO_FRN_MO4500174053]

Notice of Intent To Establish Recreation Fee Areas and Collect Fees on Public Lands in Chaffee and Fremont Counties, CO

AGENCY: Bureau of Land Management, Interior.

ACTION: Notice of intent.

SUMMARY: Pursuant to the Federal Lands Recreation Enhancement Act (FLREA), the Bureau of Land Management (BLM), Royal Gorge Field Office intends to establish fee areas and to collect fees at Turtle Rock Campground, Burmac Camping Area, Shavano Camping Area, CR304 Camping Area, Browns Grotto Camping Area, Penrose Commons, Sand Gulch Campground, and The Bank Campground in Fremont and Chaffee counties, Colorado.

DATES: Comments on the proposed fee areas and fees must be received or postmarked by March 25, 2024 and must include the commenter's legible full name and address. Starting on August 23, 2024, the BLM will have the option to initiate fee collection at the sites listed in the SUMMARY section for overnight visitation unless the BLM publishes a Federal Register notice to the contrary. Comments received after the close of the comment period or delivered to an address other than the one listed in this notice may not be considered or included in the administrative record for the proposal.

ADDRESSES: Please email comments to blm_rgfo_comments@blm.gov or send by mail to BLM Royal Gorge Field Office at 3028 E Main Street, Canon City, CO 81212, Attn: Kalem Lenard. Documents concerning this fee change may be reviewed at the Royal Gorge Field Office or online at https://www.blm.gov/programs/recreation/permits-and-fees/business-plans.

FOR FURTHER INFORMATION CONTACT: Kalem Lenard, Assistant Field Manager, phone (719) 269-8500, email: blm_rgfo_comments@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM is committed to providing and receiving fair value for the use of developed recreation facilities and services in a manner that meets public-use demands, provides quality experiences, and protects important resources. The BLM's policy is to collect fees at specialized recreation sites or where the BLM provides facilities, equipment, or services at Federal expense, in connection with outdoor use. Pursuant to FLREA and the regulations at 43 CFR subpart 2933, the BLM may charge expanded amenity fees for overnight camping and group use, including reservation services, where specific amenities and services are provided.

FLREA directs the Secretary of the Interior to publish a 6-month advance notice in the Federal Register whenever new recreation fee areas are established. In accordance with BLM policy, the Business Plan for Royal Gorge Field Office Campgrounds (available at https://www.blm.gov/programs/recreation/permits-and-fees/business-plans) explains the fee collection process and how fees will be used at this site. Per FLREA guidelines, the Rocky Mountain Resource Advisory Council reviewed the proposal in November 2023 and voted unanimously to support the business plan and fee proposal. To meet increasing demand for services and maintenance and to address increased visitor use and costs of operation, the BLM proposes the following expanded amenity fees:

• $20 per night basic campsite fee and $40 per night group campsite fee at Turtle Rock Campground;

• $10 per night campsite fee for primitive campsites at Shavano, Burmac, Browns Grotto, County Road 304, and Penrose Commons camping areas; and

• $10 per night vehicle fee for overnight camping use in overflow camping areas with access to nearby campground facilities at Burmac, County Road 304, Penrose Commons, The Bank Campground, and Sand Gulch Campground.

The Royal Gorge Field Office Campground Business Plan used a market analysis and management expense estimates to determine the expanded amenity fees at these recreation sites. The BLM's public outreach process and analysis of the fee program are detailed in the Business Plan. These expanded amenity camping fees are consistent with other established fee sites in the region.

(Authority: 16 U.S.C. 6804(e))

Douglas J. Vilsack,
Colorado State Director.

[FR Doc. 2024-03731 Filed 2-22-24; 8:45 am]

BILLING CODE 4331-16-P